DEPARTMENT OF ENERGY

Federal Energy Regulatory Commission

[Docket No. CP06-58-000]

Southern Natural Gas Company; Notice of Application

February 9, 2006.

Take notice that on February 1, 2006, Southern Natural Gas Company (Southern), Post Office Box 2563, Birmingham, Alabama 35202-2563, filed in Docket No. CP06-58-000 an application pursuant to sections 7(b) and 7(c) of the Natural Gas Act (NGA) for: (1) Permission and approval to abandon certain pipeline and appurtenant facilities in Tuscaloosa County, Alabama, and certain compression facilities in St Clair County, Alabama; and (2) construct, install, and operate certain pipeline facilities in Tuscaloosa County, Alabama, all as more fully set forth in the application which is on file with the Commission and open to public inspection. This filing may also be viewed on the Commission's website at http://www.ferc.gov using the “eLibrary” link, select “Docket #” and follow the instructions (call 202-502-8222 or for TTY, 202-502-8659).

Southern proposes to abandon in place approximately 4.55 miles of 22-inch diameter pipeline and to abandon and remove approximately 6.36 miles of 22-inch diameter pipeline on its McConnells North Main Loop in Tuscaloosa County. Southern also proposes to construct, install, and operate approximately 6.1 miles of 24-inch diameter pipeline on its 2nd North Main Loop to replace the abandoned 6.36 miles of 22-inch diameter pipeline on the North Main Loop. Southern states that it no longer needs the Pell City Unit No. 3 at the Pell City compressor station in St. Clair County to meet peak demands because of capacity turnbacks on the Gadsden Lateral Line. Southern proposes to abandon the Pell City Unit No. 3 in place by disconnecting it from all existing gas piping system connections, including fuel gas and installing blind flanges at these points. Additionally, Southern states that electric power will be disconnected from the unit such that all control systems will be inoperable.

Southern estimates that it will spend $8,422,474 for this proposal with funds on hand and cash from future operations. Southern states that its existing customers would not lose any service because of the proposed abandonment.

Any questions regarding this application should be directed to Patricia S. Francis, Senior Counsel, Southern Natural Gas Company, Post Office Box 2563, Birmingham, Alabama 35202-2563 at (205) 325-7696.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: March 2, 2006.

Magalie R. Salas,
Secretary.

[FR Doc. E6-2240 Filed 2-15-06; 8:45 am]

BILLING CODE 6717-01-P